COMMITTEE FOR THE IMPLEMENTATION OF TEXTILE AGREEMENTS

Duty and Quota Free Imports of Apparel Articles Assembled From Regional and Other Fabric for Beneficiary Sub-Saharan African Countries

October 11, 2000.

AGENCY: Committee for the Implementation of Textile Agreements.

ACTION: Publishing the First 12-Month Cap on Duty and Quota Free Benefits.

FOR FURTHER INFORMATION CONTACT: Philip J. Martello, Director, Trade and Data Division, Office of Textiles and Apparel, U.S. Department of Commerce, (202) 482-3400.

SUPPLEMENTARY INFORMATION:

Authority: Title I, Section 112(b)(3) of the Trade and Development Act of 2000, Presidential Proclamation 7350 of October 4, 2000 (65 FR 59321).

Title I of the Trade and Development Act of 2000 provides for duty and quota-free treatment for certain textile and apparel articles imported from designated beneficiary sub-Saharan African countries. Section 112(b)(3) of that Act provides duty and quota-free treatment for certain apparel articles assembled in beneficiary sub-Saharan African countries from fabric formed in one or more beneficiary countries. More specifically, this treatment is for apparel articles wholly assembled in one or more beneficiary sub-Saharan African countries from fabric wholly formed in one or more beneficiary countries from yarn originating in the U.S. or one or more beneficiary countries (including fabrics not formed from yarns, if such fabrics are classifiable under heading 5602 and 5603 of the Harmonized Tariff Schedule of the United States and are wholly formed and cut in one or more beneficiary country).

Moreover, this preferential treatment is also available for apparel articles wholly assembled in one or more lesser-developed beneficiary sub-Saharan African countries, regardless of the country of origin of the fabric used to make such articles. This preferential treatment for lesser-developed countries applies through September 30, 2004.

This preferential tariff treatment is limited to imports of qualifying apparel articles in an amount not to exceed one and one-half percent of the aggregate square meter equivalents of all apparel articles imported into the United States in the preceding 12-month period for which data are available. For the purpose of this notice, the 12-month period for which data are available is the 12-month period ended July 31, 2000. In Presidential Proclamation 7350 (published in the Federal Register on October 4, 2000, 65 FR 59321), the President directs CITA to publish the aggregate quantity of imports allowed during each 12-month period, in the Federal Register.

For the one-year period, beginning on October 1, 2000, and extending through September 30, 2001, the aggregate quantity of imports eligible for preferential tariff treatment under these provisions is 246,500,393 square meter equivalents. This quantity will be recalculated for each subsequent year, under Section 112(b)(3)(A). Apparel articles entered in excess of this quantity shall be subject to otherwise applicable tariffs.

The amount is calculated using the aggregate square meter equivalents of all apparel articles imported into the United States, derived from the set of Harmonized Tariff Schedule (HTS) lines listed in the Annex to the World Trade Organization Agreement on Textiles and Clothing (ATC), and the conversion factors for units of measure into square meter equivalents used by the United States in implementing the ATC.

Richard B. Steinkamp
Acting Chairman, Committee for the Implementation of Textile Agreements.

[FR Doc.00-26518 Filed 10-13-00; 8:45 am]

BILLING CODE 3510-DR-F